DEPARTMENT OF ENERGY

Federal Energy Regulatory Commission

[Docket Nos. EL13-11-000; RD13-1-000]

Tri-State Generation and Transmission Association, Inc. v. Western Electric Coordinating Council and North American Electric Reliability Corporation; Notice of Complaint

Take notice that on October 18, 2012, pursuant to sections 215(d)(6) and 206 of the Federal Power Act, 16 USC 824o(d)(6) and 824e (2010), section 39.6 of the Federal Energy Regulatory Commission's (Commission) regulations 18 CFR 39.6 (2011) and rule 206 of Commission's Rules of Practice and Procedure, 18 CFR 385.206 (2011), Tri-State Generation and Transmission Association, Inc. (Complainants) filed a complaint and petition requesting resolution of the conflict between Western Electric Coordinating Council and North American Electric Reliability Corporation's (Respondent) implementation of Regional Reliability Standard IRO-006-WECC-1 and the transmission curtailment priorities specified in the Commission's pro forma Open Access Transmission Tariff.

The Complainant stated that copies of the complaint and petition have been served on the Respondents as listed on the Certificate of Service appended to the complaint and petition.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on November 8, 2012.

Dated: October 22, 2012.
Kimberly D. Bose,
Secretary.

[FR Doc. 2012-26442 Filed 10-26-12; 8:45 am]

BILLING CODE 6717-01-P